DEPARTMENT OF TRANSPORTATION

Federal Aviation Administration

14 CFR Part 39

[Docket No. FAA-2010-1270; Directorate Identifier 2001-NE-50-AD; Amendment 39-16788; AD 2005-25-10R1]

RIN 2120-AA64

Airworthiness Directives; Dowty Propellers Type R321/4-82-F/8, R324/4-82-F/9, R333/4-82-F/12, and R334/4-82-F/13 Propeller Assemblies

AGENCY: Federal Aviation Administration (FAA), DOT.

ACTION: Final rule.

SUMMARY: We are revising an existing airworthiness directive (AD) for the products listed above. That AD currently requires initial and repetitive ultrasonic inspections of propeller hubs, part number (P/N) 660709201. This new AD requires introducing a new hub assembly P/N as an optional terminating action to the repetitive hub inspections. This AD was prompted by the need to introduce an optional terminating action for the repetitive inspections. We are issuing this AD to prevent propeller hub failure due to cracks in the hub, which could result in loss of control of the airplane.

DATES: This AD is effective October 11, 2011.

The Director of the Federal Register approved the incorporation by reference of certain publications listed in the AD as of October 11, 2011.

ADDRESSES: For service information identified in this AD, contact Dowty Propellers, Anson Business Park, Cheltenham Road East, Gloucester GL 29QN, UK; phone: 44 (0) 1452 716000; fax: 44 (0) 1452 716001. You may review copies of the referenced service information at the FAA, Engine & Propeller Directorate, 12 New England Executive Park, Burlington, MA. For information on the availability of this material at the FAA, call 781-238-7125.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: Michael Schwetz, Aerospace Engineer, Boston Aircraft Certification Office, FAA, 12 New England Executive Park, Burlington, MA 01803; phone: 781-238-7761; fax: 781-238-7170; e-mail: michael.schwetz@faa.gov.

SUPPLEMENTARY INFORMATION:

Discussion

We issued a notice of proposed rulemaking (NPRM) to amend 14 CFR part 39 to revise AD 2005-25-10, Amendment 39-14403 (70 FR 73364, December 12, 2005). That AD applies to the specified products. The NPRM published in the Federal Register on April 18, 2011 (76 FR 21675). That NPRM proposed to continue to require initial and repetitive ultrasonic inspections of propeller hubs, P/N 660709201. That NPRM also proposed to introduce as an optional terminating action for the initial and repetitive ultrasonic inspections of that AD, replacement of propeller hub P/N 660709201 with a new propeller hub, P/N 660717226.

Comments

We gave the public the opportunity to participate in developing this AD. We received no comments on the NPRM (76 FR 21675, April 18, 2011) or on the determination of the cost to the public.

Conclusion

We reviewed the relevant data and determined that air safety and the public interest require adopting the AD as proposed.

Costs of Compliance

We estimate that this AD will affect 132 propellers installed on airplanes of U.S. registry. We also estimate that it will take about 0.5 work-hour per propeller to perform the inspection and about 1 hour to replace a propeller hub. The average labor rate is $85 per work-hour. Required parts will cost about $19,500 per engine. Based on these figures, we estimate the total cost of the AD to U.S. operators to be $2,590,830.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2005-25-10, Amendment 39-14403 (70 FR 73364, December 12, 2005), and adding the following new AD:

2005-25-10R1 Dowty Propellers (formerly Dowty Aerospace; Dowty Rotol Limited; and Dowty Rotol): Amendment 39-16788 ; Docket No. FAA-2010-1270; Directorate Identifier 2001-NE-50-AD.

Effective Date

(a) This airworthiness directive (AD) is effective October 11, 2011.

Affected ADs

(b) This AD revises AD 2005-25-10, Amendment 39-14403 (70 FR 73364, December 12, 2005).

Applicability

(c) This AD applies to Dowty Propellers Type R321/4-82-F/8, R324/4-82-F/9, R333/4-82-F/12, and R334/4-82-F/13 propeller assemblies with propeller hubs, part number (P/N) 660709201.

Unsafe Condition

(d) This AD was prompted by the need to introduce an optional terminating action for the repetitive inspections. We are issuing this AD to prevent propeller hub failure due to cracks in the hub, which could result in loss of control of the airplane.

Compliance

(e) Comply with this AD within the compliance times specified, unless already done.

Initial Ultrasonic Inspections

(f) Perform an initial ultrasonic inspection of the rear wall of the rear half of the propeller hub for cracks within the compliance time specified in Table 1 of this AD. Use Appendix A or Appendix D of the applicable Dowty Alert Service Bulletin (SB) listed in Table 1 of this AD to do the inspection.

Table 1—Applicable Alert SB for Propeller Type
Propeller assembly type | Initial inspection within . . . | Repeat inspection within . . . | Applicable SB
(1) R334/4-82-F/13 | 10 flight hours (FH) time-in-service (TIS) after the effective date of this AD | 300 FH time-since-last-inspection (TSLI) or 300 flight cycles-since-last inspection, whichever occurs sooner | Alert SB No. 61-1119, Revision 5, dated July 1, 2009.
(2) R321/4-82-F/8 | 50 FH TIS after the effective date of this AD | 1,000 FH TSLI | Alert SB No. 61-A1125, Revision 2, dated August 25, 2010.
(3) R324/4-82-F/9 | 50 FH TIS after the effective date of this AD | 1,000 FH TSLI | Alert SB No. 61-A1126, Revision 2, dated August 25, 2010.
(4) R333/4-82-F/12 | 50 FH TIS after the effective date of this AD | 1,000 FH TSLI | Alert SB No. 61-A1124, Revision 2, dated August 25, 2010.

(g) For hubs and propellers in storage, perform an initial ultrasonic inspection of the rear wall of the rear half of the propeller hub for cracks, before placing in service. Use Appendix A or Appendix D of the applicable Dowty Alert SB listed in Table 1 of this AD to do the inspection.

Initial Inspection—Previous Credit

(h) Propeller hubs, P/N 660709201, that previously passed inspection using Dowty Alert SBs listed in Table 1 of this AD or an earlier issue of those SBs, have satisfied the initial inspection requirements of this AD. However, you must comply with the repetitive inspection requirements found in this AD.

Repetitive Ultrasonic Inspections

(i) Thereafter, perform a repetitive ultrasonic inspection of the rear wall of the rear half of the propeller hub for cracks within the compliance time specified in Table 1 of this AD. Use Appendix A or Appendix D of the applicable Dowty Alert SB listed in Table 1 of this AD to do the inspection.

Optional Terminating Action

(j) As optional terminating action for the repetitive inspections required by this AD, replace propeller hub, P/N 660709201, with a new propeller hub, P/N 660717226.

Alternative Methods of Compliance (AMOCs)

(k) The Manager, Boston Certification Office, has the authority to approve AMOCs for this AD if requested using the procedures found in 14 CFR 39.19.

Related Information

(l) For more information about this AD, contact Michael Schwetz, Aerospace Engineer, Boston Aircraft Certification Office, FAA, 12 New England Executive Park, Burlington, MA 01803; phone: 781-238-7761; fax: 781-238-7170; e-mail: michael.schwetz@faa.gov.

(m) European Aviation Safety Agency 2010-0196R1, dated November 12, 2010, pertains to the subject of this AD.

Material Incorporated by Reference (IBR)

(n) You must use the following service information to do the actions required by this AD, unless the AD specifies otherwise. The Director of the Federal Register approved the incorporation by reference (IBR) under 5 U.S.C. 552(a) and 1 CFR part 51 of the following service information on the date specified:

(1) Dowty Propellers Alert SB No. 61-1119, Revision 5, dated July 1, 2009, approved for IBR as of October 11, 2011.

(2) Dowty Propellers Alert SB No. 61-A1124, Revision 2, dated August 25, 2010, approved for IBR as of October 11, 2011.

(3) Dowty Propellers Alert SB No. 61-A1125, Revision 2, dated August 25, 2010, approved for IBR as of October 11, 2011.

(4) Dowty Propellers Alert SB No. 61-A1126, Revision 2, dated August 25, 2010, approved for IBR as of October 11, 2011.

(5) For service information identified in this AD, contact Dowty Propellers, Anson Business Park, Cheltenham Road East, Gloucester GL 29QN, UK; phone: 44 (0) 1452 716000; fax: 44 (0) 1452 716001.

(6) You may review copies of the service information at the FAA, Engine & Propeller Directorate, 12 New England Executive Park, Burlington, MA. For information on the availability of this material at the FAA, call 781-238-7125.

(7) You may also review copies of the service information that is incorporated by reference at the National Archives and Records Administration (NARA). For information on the availability of this material at an NARA facility, call 202-741-6030, or go to http://www.archives.gov/federal_register/code_of_federal_regulations/ibr_locations.html.

Issued in Burlington, Massachusetts, on August 15, 2011.
Peter A. White,
Manager, Engine & Propeller Directorate, Aircraft Certification Service.

[FR Doc. 2011-22566 Filed 9-2-11; 8:45 am]

BILLING CODE 4910-13-P